FEDERAL RETIREMENT THRIFT INVESTMENT BOARD

Sunshine Act; Notice of Meeting

TIME AND DATE: 9 a.m. (Eastern Time) October 17, 2011.

PLACE: 4th Floor Conference Room, 1250 H Street, NW., Washington, DC 20005.

STATUS: Open to the Public.

Matters To Be Considered

1. Approval of the minutes of the September 16, 2011 Board Member Meeting.

2. Recognition of Outstanding Service by Chairman Saul and Board Member Sanchez.

3. Thrift Savings Plan Activity Report by the Executive Director.

a. Monthly Participant Activity Report.

b. Quarterly Investment Performance Review.

c. Legislative Report.

4. Mid-Year Financial Audit Report.

5. Quarterly Vendor Financial Report.

Contact Person for More Information

Thomas J. Trabucco, Director, Office of External Affairs, (202) 942-1640.

Dated: October 7, 2011.
Amanda Haas,
Executive Assistant, Federal Retirement Thrift Investment Board.

[FR Doc. 2011-26510 Filed 10-7-11; 4:15 pm]

BILLING CODE 6760-01-P